NATIONAL SCIENCE FOUNDATION

Committee Management; Renewal

The NSF management officials having responsibility for the Advisory Committee for International Science and Engineering, #25104 have determined that renewing the committee for another two years is necessary and in the public interest in connection with the performance of duties imposed upon the Director, National Science Foundation by 42 U.S.C. 1861 et seq. This determination follows consultation with the Committee Management Secretariat, General Services Administration.

The effective date for renewal will be April 17, 2009. For more information contact Susanne Bolton at (703) 292-7488.

Dated: March 30, 2009.
Susanne E. Bolton,
Committee Management Officer.

[FR Doc. E9-7548 Filed 4-3-09; 8:45 am]

BILLING CODE 7555-01-P